DEPARTMENT OF AGRICULTURE

Natural Resources Conservation Service

Alma Mill Creek Watershed, Buffalo County, WI

AGENCY: Natural Resources Conservation Service, USDA.

ACTION: Notice of a Finding of No Significant Impact.

SUMMARY: Pursuant to Section 102(2)(c) of the National Environmental Policy Act of 1969; the Council on Environmental Quality Regulations (40 CFR part 1500); and the Natural Resources Conservation Service Regulations (7 CFR part 650); the Natural Resources Conservation Service, U.S. Department of Agriculture, gives notice that an environmental impact statement is not being prepared for the Alma Mill Creek Watershed, Buffalo County, Wisconsin.

For Further Information Contact: Patricia S. Leavenworth, State Conservationist, Natural Resources Conservation Service, 6515 Watts Road, Suite 200, Madison, Wisconsin, 53719. Telephone (608) 276-8732.

Supplementary Information: The environmental assessment of this federally assisted action indicates that the project will not cause significant local, regional, or national impacts on the environment. As a result of these findings, Patricia S. Leavenworth, State Conservationist, has determined that the preparation and review of an environmental impact statement are not needed for this project.

The project purposes are gully, sediment and flood control. The planned works of improvement include the repair of pipe separations in the principal spillway of structures 2, 3 and 5, and removal of sediment from all three structures. Enactment of a county floodplain zoning ordinance will restrict future development within the hydraulic shadow of all three structures.

A limited number of copies of the FONSI are available to fill single copy requests at the above address. Basic data developed during the environmental assessment are on file and may be reviewed by contacting Sheryl B. Paczwa.

No administrative action on implementation of the proposal will be taken until 30 days after the date of this publication in the Federal Register.

Patricia S. Leavenworth,
State Conservationist.

[FR Doc. 01-6208 Filed 3-12-01; 8:45 am]

BILLING CODE 3410-16-P